DEPARTMENT OF ENERGY

Federal Energy Regulatory Commission

[Docket No. RP02-92-001]

K N Wattenberg Transmission Limited Liability Company; Notice of Tariff Filing

December 20, 2001.

Take notice that on December 7, 2001, K N Wattenberg Transmission Limited Liability Company (KN Wattenberg) tendered for filing as part of its FERC Gas Tariff, First Revised Volume No. 1, a corrected tariff sheet, to become effective December 1, 2001:

Second Revised Sheet No. 0

On November 30, 2001, KN Wattenberg submitted a filing in Docket No. RP02-92-000 to cancel its tariff. KN Wattenberg sought an effective date of December 1, 2001. KN Wattenberg, however, inadvertently included the wrong effective date on the tariff sheets included in the filing. In this filing, KN Wattenberg has attached a corrected tariff sheet and a corrected marked version of the tariff sheet.

Any person desiring to protest said filing should file a protest with the Federal Energy Regulatory Commission, 888 First Street, NE., Washington, DC 20426, in accordance with section 385.211 of the Commission's rules and regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31994 Filed 12-27-01; 8:45 am]

BILLING CODE 6717-01-P